DEPARTMENT OF COMMERCE

International Trade Administration

[A-489-501]

Circular Welded Carbon Steel Standard Pipe and Tube Products From Turkey: Correction to the Initiation Notice of the 2020-2021 Antidumping Duty Administrative Review

AGENCY: Enforcement and Compliance, International Trade Administration, Department of Commerce.

DATES: Applicable May 19, 2022.

FOR FURTHER INFORMATION CONTACT: Magd Zalok, AD/CVD Operations, Office IV, Enforcement and Compliance, International Trade Administration, U.S. Department of Commerce, 1401 Constitution Avenue NW, Washington, DC 20230; telephone: (202) 482-4162.

SUPPLEMENTARY INFORMATION:

Background

On July 6, 2021, the U.S. Department of Commerce (Commerce) published in the Federal Register notice of its initiation of the 2020-2021 administrative review of the antidumping duty order on circular welded carbon steel standard pipe and tube products from Turkey.¹ The period of review is May 1, 2020, through April 30, 2021. Subsequent to the publication of the initiation of this segment of the proceeding in the Federal Register, we identified inadvertent errors in the Initiation Notice:

¹ See Initiation of Antidumping and Countervailing Duty Administrative Reviews, 86 FR 35481 (July 6, 2021) (Initiation Notice).

• First, Commerce omitted from the Initiation Notice the following company for which a review was requested: Kale Baglanti Teknolojileri San. ve Tic. A.S. (Kale Baglanti).²

² See Nucor Tubular Product Inc.'s Letter, “Circular Welded Carbon Steel Pipes and Tubes from Turkey: Request for Administrative Review,” dated June 1, 2021, in which Nucor Tubular Product Inc. timely requested an administrative review for Kale Baglanti, among other companies). Because Commerce received a timely review request for this company, we now correct the Initiation Notice to initiate a review for this company.

• Second, we inadvertently initiated the review for Borusan Mannesmann Pipe U.S. Inc. (BMP), the affiliated U.S. reseller of the exporter Borusan Mannesmann Boru Sanayi ve Ticaret A.S. (Borusan Mannesmann) for which we also initiated a review.³

³ BMP was not an exporter or producer of the subject merchandise during the period of this review. It is Borusan Mannesmann's affiliated U.S. reseller. See, e.g., Borusan Mannesmann's Letter, “Circular Welded Carbon Steel Pipes and Tubes from Turkey, Case No. A-489-501: Request for Antidumping Duty Administrative review,” dated June 1, 2021, in which Borusan Mannesmann requested an administrative review for itself and its U.S. affiliated reseller, BMP. As a result, we now correct the Initiation Notice to remove BMP's name.

Commerce is hereby correcting the Initiation Notice to address these errors. This correction to the notice of initiation of administrative review is issued and published in accordance with sections 751(a) and 777(i)(1) of the Tariff Act of 1930, as amended.

Dated: May 12, 2022.
Lisa W. Wang,
Assistant Secretary for Enforcement and Compliance.

[FR Doc. 2022-10732 Filed 5-18-22; 8:45 am]

BILLING CODE 3510-DS-P